DEPARTMENT OF AGRICULTURE

Food and Nutrition Service

Submission for OMB Review; Comment Request

April 21, 2016.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 26, 2016 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR part 245, Determining Eligibility for Free and Reduced Price Meals and Free Milk in Schools.

OMB Control Number: 0584-0026.

Summary of Collection: The Richard B. Russell National School Lunch Act (NSLA), as amended, authorizes the National School Lunch Program (NSLP). Section 9, Paragraph 9(b) of the NSLA provides that the income guidelines for determining eligibility for free school meals must be 130 percent, and reduced price school meals must be 185 percent, of the applicable family size income levels contained in the non-farm income poverty guidelines prescribed by the Office of Management and Budget, as adjusted annually. The Code of Federal Regulations (CFR), Title 7 CFR part 245, Determining Eligibility for Free and Reduced Price Meals and Free Milk in Schools, sets forth policies and procedures for implementing these provisions. These federal regulations require schools operating the NSLP to determine children's eligibility for free and reduced-price meals on the basis of each child's household income and size, and to establish operating procedures that will prevent physical segregation, or other discrimination against, or overt identification of children unable to pay the full price for meals or milk. Section 104 of the Child Nutrition and WIC Reauthorization Act of 2004 added section 9(b)(4) to the NSLA (42 U.S.C. 1758(b)(4)) to require school food authorities to directly certify, without further application, any child who is a member of a household receiving Supplemental Nutrition Assistance Program (SNAP) benefits.

Need and Use of the Information: FNS will collect information to determine eligibility of children for free and reduced price meals and for free milk and to assure that there is no physical segregation of, or other discrimination against, or overt identification of children unable to pay the full price for meals or milk.

Description of Respondents: Individuals or households; State, Local, or Tribal Government.

Number of Respondents: 5,409,878.

Frequency of Responses: Recordkeeping; Reporting: Annually; Other (3 per year).

Total Burden Hours: 945,743.

Food Nutrition Service

Title: Regional Office Administered Program (ROAP) Child Nutrition Payment Center (for the National School Lunch, School Breakfast, and Special Milk Programs).

OMB Control Number: 0584-0284.

Summary of Collection: Section 5 of the Child Nutrition Act of 1966 [U.S.C. 1774] specifies that if the Secretary of Agriculture is administering (in whole or in part) any program authorized under this Act, the State in which the Secretary is administering the program may, upon request to the Secretary, assume administration of that program. If a State educational agency is not permitted by law to disburse the funds paid to it under this Act to any of the nonpublic schools in the State, the Secretary shall disburse the funds directly to such schools within the State for the same purposes and subject to the same conditions as are authorized or required with respect to the disbursements to public schools within the State by the State educational agency. In States where the FNS Regional Office administers the National School Lunch, School Breakfast, and Special Milk Programs as a Regional Office Administered Program (ROAP), school food authorities (SFAs) or local institutions must submit the monthly claim for reimbursement data to the Regional Office for processing to receive reimbursement.

Need and Use of the Information: The information is collected electronically from school food authorities that participate in the National School Lunch, School Breakfast, and Special Milk Programs that are administered directly by the associated USDA FNS Regional Office as a ROAP. The ROAP system is used to collect application and meal count information which is used to process claims for reimbursement. The application information is collected annually, while the meal count information is collected monthly.

Description of Respondents: State, Local or Tribal Government.

Number of Respondents: 60.

Frequency of Responses: Reporting: Annually; Monthly.

Total Burden Hours: 330.

Ruth Brown,
Departmental Information Collection Clearance Officer.

[FR Doc. 2016-09746 Filed 4-25-16; 8:45 am]

BILLING CODE 3410-30-P